DEPARTMENT OF TRANSPORTATION

Federal Railroad Administration

49 CFR Parts 209, 213, 217, 219, 227, 229, 230, 232, 238, 239, 240, 241, and 242

[Docket No. FRA-2025-0109]

RIN 2130-AD22

Removal of Unnecessary and Outdated Paperwork Reduction Act References

AGENCY: Federal Railroad Administration (FRA), Department of Transportation (DOT).

ACTION: Notice of proposed rulemaking (NPRM).

SUMMARY: FRA intends to remove thirteen sections throughout its regulations that unnecessarily recite the approval of information collection requirements by the Office of Management and Budget (OMB), state the assigned OMB control number associated with the entire CFR part, and list the sections in that part with information collection requirements.

DATES: Comments on the proposed rule must be received by September 2, 2025. FRA may consider comments received after that date, but only to the extent practicable.

ADDRESSES: Comments: Comments related to Docket No. FRA-2025-0109 may be submitted by going to https://www.regulations.gov and following the online instructions for submitting comments.

Instructions: All submissions must include the agency name, docket number (FRA-2025-0109), and Regulatory Identification Number (RIN) for this rulemaking (2130-AD22). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Arlette Mussington, Information Collection Clearance Officer, at email: arlette.mussington@dot.gov or telephone: (571) 609-1285, Joanne Swafford, Information Collection Clearance Officer, at email: joanne.swafford@dot.gov or telephone: (757) 897-9908, or Elliott Gillooly, Attorney Adviser, at elliott.gillooly@dot.gov.

SUPPLEMENTARY INFORMATION:

I. Background

Consistent with the deregulatory agenda of President Donald J. Trump and Secretary of Transportation Sean P. Duffy, which seeks to unleash America's economic prosperity without compromising transportation safety, FRA is reviewing its regulatory requirements in parts 200 through 299 of title 49, Code of Federal Regulations (CFR). FRA has identified thirteen sections throughout its regulations that unnecessarily recite the approval of information collection requirements by OMB, state the assigned OMB control number associated with the entire CFR part, and list the sections in that part with information collection requirements. These thirteen sections are unnecessary because the final rules promulgating each regulation generally contained the OMB control number applicable to that part ¹ and, every three years on a rolling basis, FRA publishes two notices in the Federal Register stating its intent to renew each OMB control number. Removing each of the thirteen sections that state OMB control numbers, detailed below in the Section-by-Section Analysis, will prevent potential confusion by persons seeking to understand the scope of a particular OMB-approved control number. The potential confusion arises because most of the sections to be removed also contain lists of all the sections in that part which are covered by the OMB control number. Those lists are updated much less frequently, if at all, than FRA's submissions requesting renewed OMB approval of each control number every three years. In addition, removing these thirteen sections will collectively reduce the amount of CFR text that regulated entities must read and FRA also anticipates that the cost of publishing the CFR will be reduced because the removed sections collectively add pages to the CFR. The most up-to-date catalog of all information collection requirements approved by OMB under a particular control number can easily be reviewed in the notices seeking renewed approval that FRA publishes in the Federal Register at approximately three-year intervals. Information about approved OMB control numbers is also publicly available at https://www.reginfo.gov/public/do/PRASearch. Overall, the removal of these sections will reduce burdens while making technical changes without any adverse effect on railroad safety.

¹ The exceptions are parts 227, 230, 241 and 242. While an approved OMB control was not included in final rules creating those parts, the control numbers that were approved for each part were later published in the Federal Register, as detailed in the Section-by-Section Analysis.

II. Section-by-Section Analysis

Section 209.337

Section 209.337 states that information collection requirements in part 209 have been assigned OMB control number 2130-0529. This OMB control number is currently approved and need not be printed in the CFR because it has been previously published in the Federal Register, is displayed on any FRA forms if required, and is publicly viewable at https://www.reginfo.gov/public/do/PRASearch.

Section 213.19

Section 213.19 states that information collection requirements in part 213 have been assigned OMB control number 2130-0010. This OMB control number is currently approved and need not be printed in the CFR because it has been previously published in the Federal Register, is displayed on any FRA forms if required, and is publicly viewable at https://www.reginfo.gov/public/do/PRASearch.

Section 217.13

Section 217.13 states that information collection requirements in part 217 have been assigned OMB control number 2130-0035. This OMB control number is currently approved and need not be printed in the CFR because it has been previously published in the Federal Register, is displayed on any FRA forms if required, and is publicly viewable at https://www.reginfo.gov/public/do/PRASearch.

Section 219.21

Section 219.21 states that information collection requirements in part 219 have been assigned OMB control number 2130-0526. This OMB control number is currently approved and need not be printed in the CFR because it has been previously published in the Federal Register,is displayed on any FRA forms if required, and is publicly viewable at https://www.reginfo.gov/public/do/PRASearch.

Section 227.15

In part 227, “2130-NEW” was provided as an OMB control number placeholder at § 227.15. The current OMB control number for part 227 is 2130-0571, as published in the Federal Register most recently at 89 FR 46296 (May 28, 2024). This OMB control number is currently approved and need not be printed in the CFR because it has been previously published in the Federal Register, is displayed on any FRA forms if required, and is publicly viewable at https://www.reginfo.gov/public/do/PRASearch.

Section 229.4

Section 229.4 states that information collection requirements in part 229 have been assigned OMB control number 2130-0004. This OMB control number is currently approved and need not be printed in the CFR because it has been previously published in the Federal Register, is displayed on any FRA forms if required, and is publicly viewable at https://www.reginfo.gov/public/do/PRASearch.

Section 230.9

In part 230, § 230.9(a) was reserved for an OMB control number. The current OMB control number for part 230 is 2130-0505, as published in the Federal Register most recently at 89 FR 63469 (Aug. 5, 2024). This OMB control number is currently approved and need not be printed in the CFR because it has been previously published in the Federal Register, is displayed on any FRA forms if required, and is publicly viewable at https://www.reginfo.gov/public/do/PRASearch.

Section 232.21

Section 232.21 states that information collection requirements in part 232 have been assigned OMB control number 2130-0008. This OMB control number is currently approved and need not be printed in the CFR because it has been previously published in the Federal Register, is displayed on any FRA forms if required, and is publicly viewable at https://www.reginfo.gov/public/do/PRASearch.

Section 238.23

Section 238.23 states that information collection requirements in part 238 have been assigned OMB control number 2130-0544. This OMB control number is currently approved and need not be printed in the CFR because it has been previously published in the Federal Register, is displayed on any FRA forms if required, and is publicly viewable at https://www.reginfo.gov/public/do/PRASearch.

Section 239.15

Section 239.15 states that information collection requirements in part 239 have been assigned OMB control number 2130-0545. This OMB control number is currently approved and need not be printed in the CFR because it has been previously published in the Federal Register, is displayed on any FRA forms if required, and is publicly viewable at https://www.reginfo.gov/public/do/PRASearch.

Section 240.13

Section 240.13 states that information collection requirements in part 240 have been assigned OMB control number 2130-0533. This OMB control number is currently approved and need not be printed in the CFR because it has been previously published in the Federal Register, is displayed on any FRA forms if required, and is publicly viewable at https://www.reginfo.gov/public/do/PRASearch.

Section 241.19

Section 241.19(a) states that the information collection requirements of part 241 are being reviewed by OMB, but no control number was provided by FRA in a final rule. The current OMB control number for part 241 is 2130-0556, as published in the Federal Register most recently at 88 FR 67866 (Oct. 2, 2023). This OMB control number is currently approved and need not be printed in the CFR because it has been previously published in the Federal Register, is displayed on any FRA forms if required, and is publicly viewable at https://www.reginfo.gov/public/do/PRASearch.

Section 242.13

Section 242.13(a) states that the information collection requirements of part 242 are being reviewed by OMB, but no control number was provided by FRA in a final rule. The current OMB control number for part 242 is 2130-0596, as published in the Federal Register most recently at 89 FR 61231 (July 30, 2024). This OMB control number is currently approved and need not be printed in the CFR because it has been previously published in the Federal Register, is displayed on any FRA forms if required, and is publicly viewable at https://www.reginfo.gov/public/do/PRASearch.

III. Regulatory Impact and Notices

A. Executive Order (E.O.) 12866 (Regulatory Planning and Review) and DOT Regulatory Policies and Procedures

FRA has evaluated this final rule in accordance with E.O. 12866, Regulatory Planning and Review (58 FR 51735, Oct. 4, 1993), and DOT Order 2100.6B, Policies and Procedures for Rulemaking (Mar. 10, 2025). The Office of Information and Regulatory Affairs within the Office of Management and Budget (OMB) determined that this final rule is not a significant regulatory action under section 3(f) of E.O. 12866.

FRA analyzed the potential costs and benefits of this final rule. The regulated entities will benefit because removing each of the thirteen sections that state OMB control numbers will eliminate potential confusion by persons seeking to understand the scope of a particular OMB-approved control number. Additionally, removing these thirteen sections will collectively reduce the amount of CFR text that regulated entities must read. The Government will also benefit from a reduced cost of publishing the CFR since the removed sections collectively add pages to the CFR.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ² Implementation guidance for E.O. 14192 issued by OMB (Memorandum M-25-20, Mar. 26, 2025) defines two different types of E.O. 14192 actions: an E.O. 14192 deregulatory action, and an E.O. 14192 regulatory action.³

² Executive Office of the President. Executive Order 14192 of January 31, 2025. Unleashing Prosperity Through Deregulation. 90 FR 9065-9067. Feb. 6, 2025.

³ Executive Office of the President. Office of Management and Budget. Guidance Implementing Section 3 of Executive Order 14192, Titled “Unleashing Prosperity Through Deregulation.” Memorandum M-25-20. Mar. 26, 2025.

An E.O. 14192 deregulatory action is defined as “an action that has been finalized and has total costs less than zero.” This proposed rulemaking is expected to have total costs less than zero, and therefore it would be considered an E.O. 14192 deregulatory action upon issuance of a final rule. While FRA affirms that each amendment proposed in this NPRM has a cost that is “less than zero” consistent with E.O. 14192, FRA still requests comment on the extent of the cost savings for the changes proposed in this NPRM.

C. Regulatory Flexibility Act and E.O. 13272

The Regulatory Flexibility Act (5 U.S.C. 601 et seq.), as amended by the Small Business Regulatory Enforcement Fairness Act of 1996,⁴ requires Federal agencies to consider the effects of the regulatory action on small business and other small entities and to minimize any significant economic impact. Accordingly, DOT policy requires an analysis of the impact of all regulations on small entities, and mandates that agencies strive to lessen any adverse effects on these businesses. The term small entities comprises small businesses and not-for-profit organizations that are independently owned and operated and are not dominant in their fields, and governmental jurisdictions with populations of less than 50,000 (5 U.S.C. 601(6)).

⁴ Public Law 104-121, 110 Stat. 857 (Mar. 29, 1996).

No regulatory flexibility analysis is required, however, if the head of an Agency or an appropriate designee certifies that the rule will not have a significant economic impact on a substantial number of small entities. This proposed rule removes outdated and unnecessary regulatory sections without adding any regulatory burden or costs for any entity. Consequently, the undersigned certifies that the proposed action would not have a significant economic impact on a substantial number of small entities.

In accordance with section 213(a) of the Small Business Regulatory Enforcement Fairness Act of 1996 (Pub. L. 104-121, 110 Stat. 857), FRA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

D. Paperwork Reduction Act

This proposed rule contains no new information collection requirements under the Paperwork Reduction Act of 1995 (44 U.S.C. 3501-3520).

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

F. Federalism Implications

This proposed rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This proposed rule would not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211 requires Federal agencies to prepare a Statement of Energy Effects for any “significant energy action.” ⁵ FRA has evaluated this proposed rule in accordance with E.O. 13211 and determined that this proposed rule is not a “significant energy action” within the meaning of E.O. 13211.

⁵ 66 FR 28355 (May 22, 2001).

I. E.O. 13175 (Tribal Consultation)

FRA has evaluated this proposed rule in accordance with the principles and criteria contained in E.O. 13175, Consultation and Coordination with Indian Tribal Governments, dated November 6, 2000. The proposed rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 ⁶ prohibits Federal agencies from engaging in any standards or related activities that create unnecessary obstacles to the foreign commerce of the United States. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the United States.

⁶ 19 U.S.C. ch. 13.

K. Privacy Act Statement

In accordance with 5 U.S.C. 553(c), DOT solicits comments from the public to better inform its rulemaking process. DOT posts these comments, without edit, to http://www.regulations.gov, as described in the system of records notice, DOT/ALL-14 FDMS, accessible through www.transportation.gov/privacy. To facilitate comment tracking and response, we encourage commenters to provide their name, or the name of their organization; however, submission of names is completely optional. Whether or not commenters identify themselves, all timely comments will be fully considered. If you wish to provide comments containing proprietary or confidential information, please contact the agency for alternate submission instructions.

L. Rulemaking Summary

As required by 5 U.S.C. 553(b)(4), a summary of this rule can be found at regulations.gov, Docket No. FRA-2025-0109, in the SUMMARY section of this proposed rule.

List of Subjects

49 CFR Part 209

Administrative practice and procedure, Hazardous materials transportation, Penalties, Railroad safety, Reporting and recordkeeping requirements.

49 CFR Part 213

Penalties, Railroad safety, Reporting and recordkeeping requirements.

49 CFR Part 217

Penalties, Railroad safety, Reporting and recordkeeping requirements.

49 CFR Part 219

Alcohol abuse, Drug abuse, Drug testing, Penalties, Railroad safety, Reporting and recordkeeping requirements, Safety, Transportation.

49 CFR Part 227

Hazardous materials transportation, Incorporation by reference, Locomotive noise control, Occupational safety and health, Penalties, Railroad employees, Railroad safety, Reporting and recordkeeping requirements.

49 CFR Part 229

Locomotives, Railroad safety, Remote control locomotives.

49 CFR Part 230

Penalties, Railroad safety, Reporting and recordkeeping requirements, Steam locomotives.

49 CFR Part 232

Power brakes, Railroad safety, Securement, Two-way end-of-train devices.

49 CFR Part 238

Fire prevention, Passenger equipment, Penalties, Railroad safety, Reporting and recordkeeping requirements.

49 CFR Part 239

Passenger train emergency preparedness, Penalties, Railroad safety, Reporting and recordkeeping requirements.

49 CFR Part 240

Administrative practice and procedure, Locomotive engineer, Penalties, Railroad employees, Railroad operating procedures, Railroad safety, Reporting and recordkeeping requirements.

49 CFR Part 241

Communications, Penalties, Railroad safety, Reporting and recordkeeping requirements.

49 CFR Part 242

Administrative practice and procedure, Conductor, Penalties, Railroad employees, Railroad operating procedures, Railroad safety, Reporting and recordkeeping requirements.

The Proposed Rule

For the reasons discussed in the preamble, FRA proposes to amend parts 209, 213, 217, 219, 227, 229, 230, 232, 238, 239, 240, 241, 242 of chapter II, subtitle B of title 49, Code of Federal Regulations as follows:

PART 209—RAILROAD SAFETY ENFORCEMENT PROCEDURES

1. The authority citation for part 209 continues to read as follows:

Authority: 49 U.S.C. 5123, 5124, 20103, 20107, 20111, 20112, 20114; 28 U.S.C. 2461 note; and 49 CFR 1.89.

§ 209.337 [Removed]

2. Remove § 209.337.

PART 213—TRACK SAFETY STANDARDS

3. The authority citation for part 213 continues to read as follows:

Authority: 49 U.S.C. 20102-20114 and 20142; 28 U.S.C. 2461 note; and 49 CFR 1.89.

§ 213.19 [Removed]

4. Remove § 213.19.

PART 217—RAILROAD OPERATING RULES

5. The authority citation for part 217 continues to read as follows:

Authority: 49 U.S.C. 20103, 20107, 20168, 28 U.S.C. 2461, note; and 49 CFR 1.89.

§ 217.13 [Removed]

6. Remove § 217.13.

PART 219—CONTROL OF ALCOHOL AND DRUG USE

7. The authority citation for part 219 continues to read as follows:

Authority: 49 U.S.C. 20103, 20107, 20140, 21301, 21304, 21311; 28 U.S.C. 2461 note; Div. A, Sec. 412, Pub. L. 110-432, 122 Stat. 4889 (49 U.S.C. 20140 note); Sec. 8102, Pub. L. 115-271, 132 Stat. 3894; and 49 CFR 1.89.

§ 219.21 [Removed]

8. Remove § 219.21.

PART 227—OCCUPATIONAL SAFETY AND HEALTH IN THE LOCOMOTIVE CAB

9. The authority citation for part 227 continues to read as follows:

Authority: 49 U.S.C. 20103, 20103 note, 20166, 20701-20703, 21301, 21302, 21304; 28 U.S.C. 2461 note; and 49 CFR 1.89.

§ 227.15 [Removed]

10. Remove § 227.15.

PART 229—RAILROAD LOCOMOTIVE SAFETY STANDARDS

11. The authority citation for part 229 continues to read as follows:

Authority: 49 U.S.C. 20103, 20107, 20133, 20137-38, 20143, 20168, 20701-03, 21301-02, 21304; 28 U.S.C. 2461 note; and 49 CFR 1.89.

§ 229.4 [Removed]

12. Remove § 229.4.

PART 230—STEAM LOCOMOTIVE INSPECTION AND MAINTENANCE STANDARDS

13. The authority citation for part 230 continues to read as follows:

Authority: 49 U.S.C. 20103, 20107, 20702; 28 U.S.C. 2461 note; and 49 CFR 1.89.

§ 230.9 [Removed]

14. Remove § 230.9.

PART 232—BRAKE SYSTEM SAFETY STANDARDS FOR FREIGHT AND OTHER NON-PASSENGER TRAINS AND EQUIPMENT; END-OF-TRAIN DEVICES

15. The authority citation for part 232 continues to read as follows:

Authority: 49 U.S.C. 20102-20103, 20107, 20133, 20141, 20301-20303, 20306, 21301-20302, 21304; 28 U.S.C. 2461, note; and 49 CFR 1.89.

§ 232.21 [Removed]

16. Remove § 232.21.

PART 238—PASSENGER EQUIPMENT SAFETY STANDARDS

17. The authority citation for part 238 continues to read as follows:

Authority: 49 U.S.C. 20103, 20107, 20133, 20141, 20302-20303, 20306, 20701-20702, 21301-21302, 21304; 28 U.S.C. 2461 note; and 49 CFR 1.89.

§ 238.23 [Removed]

18. Remove § 238.23.

PART 239—PASSENGER TRAIN EMERGENCY PREPAREDNESS

19. The authority citation for part 239 continues to read as follows:

Authority: 49 U.S.C. 20102-20103, 20105-20114, 20133, 21301, 21304, and 21311; 28 U.S.C. 2461 note; and 49 CFR 1.89.

§ 239.15 [Removed]

20. Remove § 239.15.

PART 240—QUALIFICATION AND CERTIFICATION OF LOCOMOTIVE ENGINEERS

21. The authority citation for part 240 continues to read as follows:

Authority: 49 U.S.C. 20103, 20107, 20135, 21301, 21304, 21311; 28 U.S.C. 2461 note; and 49 CFR 1.89.

§ 240.13 [Removed]

22. Remove § 240.13.

PART 241—UNITED STATES LOCATIONAL REQUIREMENT FOR DISPATCHING OF UNITED STATES RAIL OPERATIONS

23. The authority citation for part 241 continues to read as follows:

Authority: 49 U.S.C. 20103, 20107, 21301, 21304, 21311; 28 U.S.C. 2461 note; 49 CFR 1.89.

§ 241.19 [Removed]

24. Remove § 241.19.

PART 242—QUALIFICATION AND CERTIFICATION OF CONDUCTORS

25. The authority citation for part 242 continues to read as follows:

Authority: 49 U.S.C. 20103, 20107, 20135, 20138, 20162, 20163, 21301, 21304, 21311; 28 U.S.C. 2461 note; and 49 CFR 1.89.

§ 242.13 [Removed]

26. Remove § 242.13.

Issued in Washington, DC.
Kyle D. Fields,
Chief Counsel.

[FR Doc. 2025-12180 Filed 6-27-25; 4:15 pm]

BILLING CODE 4910-06-P